NUCLEAR REGULATORY COMMISSION

[Docket Nos. 50-454-LR, 50-455-LR, 50-456-LR, 50-457-LR; ASLBP No. 13-929-02-LR-BD01]

Exelon Generation Company, LLC; Establishment of Atomic Safety and Licensing Board

Pursuant to delegation by the Commission dated December 29, 1972, see 37 FR 28,710 (1972), and the Commission's regulations, see, e.g., 10 CFR 2.104, 2.105, 2.300, 2.309, 2.313, 2.318, and 2.321, notice is hereby given that an Atomic Safety and Licensing Board (Board) is being established to preside over the following proceeding:

Exelon Generation Company, LLC (Byron Nuclear Station, Units 1 and 2, and Braidwood Nuclear Station, Units 1 and 2)

This proceeding involves an application by Exelon Generation Company, LLC to renew for twenty years its operating licenses for Byron Nuclear Station, Units 1 and 2, and Braidwood Nuclear Station, Units 1 and 2, which are located, respectively, near Byron, Illinois and Braidwood, Illinois. The current operating licenses for Byron Nuclear Station, Units 1 and 2, expire, respectively, on October 31, 2024 and November 6, 2026. The current operating licenses for Braidwood Nuclear Station, Units 1 and 2, expire, respectively, on October 17, 2026 and December 18, 2027. In response to a notice that provided an opportunity for a hearing on the renewal application, see 78 FR 44,603, July 24, 2013, the Environmental Law and Policy Center filed a hearing request on September 23, 2013.

The Board is comprised of the following administrative judges:

Paul S. Ryerson, Chairman, Atomic Safety and Licensing Board Panel, U.S. Nuclear Regulatory Commission, Washington, DC 20555-0001.

Dr. Paul B. Abramson, Atomic Safety and Licensing Board Panel, U.S. Nuclear Regulatory Commission, Washington, DC 20555-0001.

Dr. Gary S. Arnold, Atomic Safety and Licensing Board Panel, U.S. Nuclear Regulatory Commission, Washington, DC 20555-0001.

All correspondence, documents, and other materials shall be filed in accordance with the NRC E-Filing rule. See 10 CFR 2.302.

Issued at Rockville, Maryland this 8th day of October 2013.
E. Roy Hawkens,
Chief Administrative Judge, Atomic Safety and Licensing Board Panel.

[FR Doc. 2013-25413 Filed 10-25-13; 8:45 am]

BILLING CODE 7590-01-P